SOCIAL SECURITY ADMINISTRATION

[Docket No. SSA 2019-0010]

Privacy Act of 1974; Matching Program

AGENCY: Social Security Administration (SSA).

ACTION: Notice of a new matching program.

SUMMARY: In accordance with the provisions of the Privacy Act, as amended, this notice announces a new matching program with the Department of Labor (DOL).

This matching agreement establishes the terms, conditions, and safeguards under which the DOL will disclose the DOL-administered Part B Black Lung (BL) benefit data to SSA. SSA will match DOL's Part B BL data with SSA's records of persons receiving Supplemental Security Income (SSI) to verify that Part B BL beneficiaries are receiving the correct amount of SSI payments.

DATES: The deadline to submit comments on the proposed matching program is 30 days from the date of publication of this notice in the Federal Register. The matching program will be applicable on November 25, 2019, or once a minimum of 30 days after publication of this notice has elapsed, whichever is later. The matching program will be in effect for a period of 18 months.

ADDRESSES: Interested parties may comment on this notice by either telefaxing to (410) 966-0869, writing to Matthew D. Ramsey, Executive Director, Office of Privacy and Disclosure, Office of the General Counsel, Social Security Administration, G-401 WHR, 6401 Security Boulevard, Baltimore, MD 21235-6401, or emailing Matthew.Ramsey@ssa.gov. All comments received will be available for public inspection by contacting Mr. Ramsey at this street address.

FOR FURTHER INFORMATION CONTACT: Norma Followell, Supervisory Team Lead, Office of Privacy and Disclosure, Office of the General Counsel, Social Security Administration, G-401 WHR, 6401 Security Boulevard, Baltimore, MD 21235-6401, at Telephone: (410) 966-5855, or send an email to Norma.Followell@ssa.gov.

SUPPLEMENTARY INFORMATION: None.

Matthew Ramsey,
Executive Director, Office of Privacy and Disclosure, Office of the General Counsel.

Participating Agencies:

SSA and DOL.

Authority for Conducting the Matching Program:

The legal authority for this matching program is section 1631(f) of the Social Security Act (Act), 42 U.S.C. 1383(f). This legal authority requires any Federal agency to provide SSA with information in its possession that SSA may require for making a determination of eligibility for, or the proper amount, of SSI payments.

Purpose(s):

This matching program establishes the terms, conditions, and safeguards under which DOL will disclose the DOL-administered Part B BL benefit data to SSA. SSA will match DOL's Part B BL data with SSA's records of persons receiving SSI to verify that Part B BL beneficiaries are receiving the correct amount of SSI payments.

Categories of Individuals:

The individuals whose information is involved in this matching program are those individuals who are receiving Part B BL benefits and SSI benefits.

Categories of Records:

DOL's monthly extract file will contain each Part B BL beneficiary's Social Security number (SSN), name, date of birth, date of entitlement, payment status, current benefit amount, and effective date of the current benefit amount. SSA will determine which of the recipients are receiving SSI payments and match the DOL data against the SSN, type of action code, and income type for those recipients in SSA's Supplemental Security Income Record and Special Veterans Benefits (SSR/SVB) system of records.

System(s) of Records:

SSA will match the SSR/SVB (60-0103) system of records, last fully published on January 11, 2006 (71 FR 1830), as amended on December 10, 2007 (72 FR 69723), July 3, 2018 (83 FR 31250-31251), and November 1, 2018 (83 FR 54969), which contains all data pertinent to payments made to Title XVI recipients, with an extract from DOL's Office of Workers' Compensation Programs, BL Benefit Payments file (OWCP-9), published on April 29, 2016 (81 FR 25765). DOL has the appropriate routine uses to permit the disclosures necessary to conduct this match.

[FR Doc. 2019-23132 Filed 10-22-19; 8:45 am]

BILLING CODE P